OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 6.6 and 213.103.

FOR FURTHER INFORMATION CONTACT: Glenda Haendschke, Acting Group Manager, Executive Resources Services Group, Center for Human Resources, Division for Human Capital Leadership and Merit System Accountability, 202-606-2246.

SUPPLEMENTARY INFORMATION: Appearing in the listing below are the individual authorities established under Schedules A, B, and C between January 1, 2009, and January 31, 2009. Future notices will be published on the fourth Tuesday of each month, or as soon as possible thereafter. A consolidated listing of all authorities as of September 30 is published each year. The following Schedules are not codified in the Code of Federal Regulations. These are agency specific exceptions.

Schedule A

Schedule A authorities in the month of January 2009.

Section 213.3113. The authority is amended to read:

Section 213.3113 U.S. Department of Agriculture

(f)(2) Positions of Agricultural Commodity Graders, Agricultural Commodity Technicians, and Agricultural Commodity Aides at grades GS-11 and below in the cotton, raisin, peanut, and processed and fresh fruit and vegetable commodities and the following positions in support of these commodities: Clerks, Office Automation Clerks, and Computer Clerks and Operators at GS-5 and below; Clerk-Typists at grades GS-4 and below; and, under the Federal Wage System, High Volume Instrumentation (HVI) Operators and HVI Operator Leaders at WG/WL-2 and below, respectively, Instrument Mechanics/Workers/Helpers at WG-10 and below, and Laborers. Employment under this authority may not exceed 180 days in a service year. In unforeseen situations such as bad weather or crop conditions, unanticipated plant demands, or increased imports, employees may work up to 240 days in a service year. Cotton Agricultural Commodity Graders, GS-5, may be employed as trainees for the first appointment for an initial period of 6 months for training without regard to the service year limitation.

Section 213.3106. The authority is amended to read:

213.3106 Department of Defense

(b)(10) “Temporary or time-limited positions in direct support of U.S. Government efforts to rebuild and create an independent, free, and secure Iraq and Afghanistan, when no other appropriate appointing authority applies. Positions will generally be located in Iraq or Afghanistan, but may be in other locations, including the United States, when directly supporting operations in Iraq or in Afghanistan. No new appointments may be made under this authority after October 1, 2012.”

Schedule B

No Schedule B appointments were approved for January 2009.

Schedule C

The following Schedule C appointments were approved during January 2009.

Section 213.3318 Environmental Protection Agency

EPGS09005 Special Assistant to the Associate Administrator for Policy, Economics and Innovation. Effective January 30, 2009.

Section 213.3343 Farm Credit Administration

FLOT00080 Executive Assistant to Member, Farm Credit Administration Board. Effective January 13, 2009.

Section 213.3344 Occupational Safety and Health Review Commission

SHGS90002 Confidential Assistant to the Commission Member (Chairman). Effective January 14, 2009.

Section 213.3382 National Endowment for the Arts

NAGS00062 Counselor to the Chairman, National Endowment for the Arts. Effective January 22, 2009.

Authority: 5 U.S.C. 3301 and 3302; E.O. 10577, 3 CFR 1954-1958 Comp., p. 218.

Kathie Ann Whipple,
Acting Director, U.S. Office of Personnel Management.

[FR Doc. E9-5982 Filed 3-18-09; 8:45 am]

BILLING CODE 6325-39-P